DEPARTMENT OF HEALTH AND HUMAN SERVICES

Food and Drug Administration

[Docket No. FDA-2012-N-1205]

Accessible Medical Device Labeling in a Standard Content and Format Public Workshop; Request for Comments; Correction

AGENCY: Food and Drug Administration, HHS.

ACTION: Notice of public workshop; request for comments; correction.

SUMMARY: The Food and Drug Administration (FDA) is correcting a document that appeared in the Federal Register of January 7, 2013 (78 FR 951). The document announced a public workshop entitled “Accessible Standardized Medical Device Labeling.” The document was published with the incorrect date for submission of presentation materials. This document corrects that error.

FOR FURTHER INFORMATION CONTACT: Mary Weick-Brady, Center for Devices and Radiological Health, Food and Drug Administration, 10903 New Hampshire Ave., Bldg. 66, rm. 5426, 301-796-6089, FAX: 301-847-8510, email: Mary.Brady@fda.hhs.gov.

SUPPLEMENTARY INFORMATION:

Correction

In the Federal Register of January 7, 2013, in FR Doc. 951-953, on page 952, the following correction is made:

Under Requests for Oral Presentations, on page 952, in the first column, the sentences that read “All requests to make oral presentations must be received by the close of registration on April 5, 2013, at 5 p.m. If selected for presentation, any presentation materials must be emailed to Mary Weick-Brady (see FOR FURTHER INFORMATION CONTACT) no later than March 29, 2013” is changed to read “All requests to make oral presentations must be received by the close of registration on April 5, 2013, at 5 p.m. If selected for presentation, any presentation materials must be emailed to Mary Weick-Brady (see FOR FURTHER INFORMATION CONTACT) no later than April 19, 2013.”

Dated: January 25, 2013.
Leslie Kux,
Assistant Commissioner for Policy.

[FR Doc. 2013-02084 Filed 1-30-13; 8:45 am]

BILLING CODE 4160-01-P